NUCLEAR REGULATORY COMMISSION

Human Interaction With Reused Soil: A Literature Search; Draft NUREG-1725 for Public Comment

AGENCY: Nuclear Regulatory Commission.

ACTION: Notice of issuance of Draft NUREG for public comment.

SUMMARY: The Nuclear Regulatory Commission is issuing draft NUREG-1725 “Human Interaction with Reused Soil: A Literature Search” for public comment.

DATES: Submit comments by September 18, 2000. Comments received after this date will be considered if its is practical to do so, but the Commission is able to ensure consideration only for comments received on or before this date.

ADDRESSES: Mail written comments to: David L. Meyer, Chief, Rules and Directives Branch, Office of Administration, Mail Stop T-6D59, U.S. Nuclear Regulatory Commission, Washington, DC 20555-0001. Copies of the Draft NUREG report can be obtained through the NRC homepage address: http:///www.nrc.gov/NUREGS/SR1725/index.html or by request to the NRC staff contact, Thomas J. Nicholson.

FOR FURTHER INFORMATION CONTACT: Thomas J. Nicholson; e-mail: tjn@nrc.gov. telephone: (301) 415-6268; Office of Nuclear Regulatory Research, Mail Stop T-9F31, USNRC, Washington DC 20555-0001.

SUPPLEMENTARY INFORMATION: The Nuclear Regulatory Commission (NRC) is issuing draft NUREG-1725 “Human Interaction with Reused Soil: A Literature Search” for a 60-day public comment period. The report was compiled by National Agriculture Library (NAL) staff of the U.S. Department of Agriculture working under an Interagency Agreement with the NRC, and NRC technical staff. The report presents the literature and INTERNET search strategies for identifying documented information sources on types of soil reuse. The report discusses how this information will be used to establish the technical bases for evaluating possible dose impacts from the reuse of soils from NRC-licensed facilities. Information received through the public comment process will assist the NRC staff in developing technical bases for characterizing soil reuse practices and related dose assessment scenarios.

Specifically, the NRC staff is seeking information through comments on draft NUREG-1725 regarding potential uses of soil which may be excavated and transported offsite from NRC-licensed facilities for use in commerce or by the general public. This information will assist in developing a reasonably complete characterization of relevant usages for these reused soils. These soil reuse scenarios would include, but not be limited to, soil processing, construction and agricultural uses of reused soils, and various commercial and residential uses of reused soil and soil-related products. The goal of the solicitation of comments on the draft NUREG-1725 report is to further the development of technical bases and the supporting documentation that could be used to characterize the soil reuse scenarios.

Electronic Access: Information on draft NUREG-1725 for public comment can be accessed using the following NRC homepage address: http:///www.nrc.gov/NUREGS/SR1725/index.html or by notifying the NRC staff contact, Thomas J. Nicholson.

Dated at Rockville, Maryland, this 13th day of July 2000.
For the Nuclear Regulatory Commission.
Cheryl A. Trottier,
Chief, Radiation Protection, Environmental Risk and Waste Management Branch, Division of Risk Assessment and Applications, Office of Nuclear Regulatory Research.

[FR Doc. 00-18239 Filed 7-18-00; 8:45 am]

BILLING CODE 7590-01-P